SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before July 1, 2024.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: This is a request for the extension with changes to a currently approved collection (previous OMB number: 3245-0392). Through the RIC Initiative, the SBA is investing in regional clusters—geographic concentrations of interconnected companies, specialized suppliers, academic institutions, service providers, and associated organizations with a specific industry focus—throughout the United States that span a variety of industries. The three primary goals of the initiative are to (1) increase opportunities for small business participation within clusters, (2) promote innovation in the industries on which the clusters are focused, and (3) enhance economic development and growth in cluster regions. To achieve these goals, the clusters provide a host of services to the target population of small and emerging businesses within their regional and industry focuses. Services include direct business advising and support and sponsoring events, such as networking opportunities with investors, partner organizations, ESOs, and other stakeholders in the regions. This information collection is necessary for the SBA to understand the progress of the RIC Initiative towards achieving its goals.

The evaluation consists of two key components: an implementation evaluation and an outcome evaluation. The implementation evaluation focuses on how the Initiative is implemented across the fourteen clusters and on the services that each cluster provides to its small businesses. The outcome evaluation focuses on short and intermediate-term outcomes linked directly to the cluster services, as well as on long-term business outcomes that can be reasonably expected to result from the short- and intermediate-term outcomes. The short-term outcomes include the satisfaction and the perceived effectiveness of the program for business management and growth. The intermediate-term outcomes include development of new products, commercialization of new technologies, marketing and export services, improved access to capital, and industry integration. Long-term outcomes include increased revenue and employment. Over the previous years, evaluation results have helped to track the program performance outcomes and provide suggestions for program improvements to better facilitate innovation and small business growth. Furthermore, the evaluation survey data helped the SBA to better focus cluster activities on local contexts, particularly for rural and agricultural small businesses. This data will not be used to evaluate the effectiveness of an individual cluster.

The data collection effort involves three types of RIC Initiative stakeholders: small businesses, partner organizations, and cluster administrators. Small businesses participating in the cluster will be sent an online survey to provide data about their cluster participation experiences, satisfaction with the program and its components, the performance of their firms with respect to a variety of outcomes, and the role of cluster participation in the achievement of these outcomes. Similarly, partner organizations will be asked to complete an online survey to provide data about their experiences with the RIC Initiative. The questions include reasons for the RIC participation, collaboration with and support for small businesses, and the role of cluster participation on key organizational outcomes associated with the RIC Initiative participation. Small businesses and partner organizations will also be interviewed once a year to obtain information on barriers, facilitators, and other local influences on cluster and ecosystem engagement, best practices to facilitate innovation, and suggestions for potential cluster improvements (among other topics). The cluster administrators will be asked to provide participant rosters, which provide the framework for the surveys that the small businesses and partner organizations are sent. The administrator survey requests information about the services they provided to these two groups of stakeholders, and their operations in general. Cluster administrators will also be interviewed once a year to obtain information about how their operations have evolved, the adjustments they made, best practices, issues encountered, and the lessons learned.

Small Business Web Survey. Estimated Number of Respondents: 180. Frequency of Response: Once per year. Estimated Average Minutes per Respondent: 114.7. Estimated Total Annual Hour Burden: 344. Small Business Interview. Estimated Total Number of Respondents: 12. Frequency of Response: Once per year. Estimated Average Minutes per Response: 43. Estimated Total Annual Hour Burden: 8.6. Partner Organization Web Survey. Estimated Number of Respondents: 150. Frequency of Response: Once per year. Estimated Average Minutes per Respondent: 71. Estimated Annual Hour Burden: 177.5. Partner organization Interview. Estimated Total Number of Respondents: 12. Frequency of Response: Once per year. Estimated Average Minutes per Response: 37. Estimated Total Annual Hour Burden: 7.4. Cluster Administrator Interview. Estimated Number of Respondents: 20. Frequency of Response: Once per year. Estimated Average Minutes per Response: 87. Estimated Annual Hour Burden: 29. Cluster Administrator Web Survey. Estimated Number of Respondents: 20. Frequency of Response: Once per year. Estimated Average Minutes per Response: 35.3. Estimated Annual Hour Burden: 11.8 (including the time needed for administrators to prepare their rosters). Administrative data request. Estimated Number of Respondents: 20. Frequency of Response: Once per year. Estimated Average Minutes per Response: 30. Estimated Annual Hour Burden: 10.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control: 3245-0392.

Title: Evaluation of the Regional Innovation Cluster (RIC) Initiative.

Description of Respondents: Small businesses concerns and partner organizations involved in Regional Innovation Clusters and cluster administrators.

SBA Form Number: N/A.

Form Number: N/A.

Total Estimated Annual Responses: 350.

Total Estimated Annual Hour Burden: 531.5.

Curtis Rich,
Agency Clearance Officer.

[FR Doc. 2024-11967 Filed 5-30-24; 8:45 am]

BILLING CODE 8026-09-P